DEPARTMENT OF THE INTERIOR

Bureau of Land Management

[BLM_UT_FRN_MO4500170231]

Notice of Realty Action: Noncompetitive (Direct) Sale of Public Land in Garfield County, Utah

AGENCY: Bureau of Land Management, Interior.

ACTION: Notice of realty action.

SUMMARY: The Bureau of Land Management (BLM) is proposing a non-competitive (direct) sale of a 5.27-acre parcel of public land in Garfield County, Utah, to Millard “Crockett” Dumas. The sale would resolve an inadvertent unauthorized use of public lands. The sale would be subject to the applicable provisions of the Federal Land Policy and Management Act of 1976 (FLPMA), as amended, and the BLM land sale regulations. The sale would be for no less than the appraised fair market value of $5,000.

DATES: Interested parties must submit written comments no later than December 11, 2023.

ADDRESSES: Mail written comments to BLM Kanab Field Office, Field Manager, 669 South Highway 89A, Kanab, UT 84741, or submit them online at https://eplanning.blm.gov/eplanning-ui/project/2020901/510.

FOR FURTHER INFORMATION CONTACT: Brandon Johnson, Realty Specialist, BLM Utah State Office, phone: (435) 819-0016, email: kbjohnso@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In the 1970s, the adjacent landowner misinterpreted the boundary of their private property and inadvertently built flood retention structures, corrals, and a barn that encroached onto what is now an isolated parcel of public land. Mr. Dumas later purchased the private property and has nominated the public land parcel for direct sale. The parcel is only accessible through Mr. Dumas' property. The BLM proposes to offer the land for direct sale to resolve the issue.

The following described public land in Garfield County has been examined and found suitable for sale under the authority of Sections 203 and 209 of FLPMA, as amended:

Salt Lake Meridian, Utah

T. 35 S., R. 3 E.,

Sec. 5, parcel A.

The area described contains 5.27 acres, according to the official plat of survey of the said land, on file with the BLM.

The proposed sale conforms with the BLM Kanab Field Office Resource Management Plan, approved in October 2008. There is no known mineral value in the parcel, so the mineral estate would also be conveyed, in accordance with Section 209 of FLPMA. The lands are identified as available for disposal and listed by the legal description in Appendix D on page A5-1. A parcel-specific environmental assessment (EA), document number DOI-BLM-UT-P020-2022-0013-EA, was prepared in connection with this realty action and may be viewed at https://eplanning.blm.gov/eplanning-ui/project/2020901/510.

The land is suitable for direct sale under FLPMA, without competition, consistent with 43 CFR 2711.3-3(a)(4), as direct sales may be used “when in the opinion of the authorized officer, a competitive sale is not appropriate and the public interest would best be served by a direct sale[,]” including when “the adjoining ownership pattern and access indicate a direct sale is appropriate[.]” The parcel is only accessible through Mr. Dumas' private property, and no other potential bidder currently has legal access to this parcel. It is also suitable for direct sale consistent with 43 CFR 2711.3-3(a)(5) because there is a need to resolve an inadvertent and unauthorized use of public lands, which are encumbered by privately constructed improvements.

Pursuant to the requirements of 43 CFR 2711.1-2(d), publication of this notice in the Federal Register will segregate the land from all forms of appropriation under the public land laws, including the mining laws, except for the sale provisions of FLPMA. Until completion of the sale, the BLM will no longer accept land use applications affecting this public land. The segregative effect will terminate upon issuance of a patent, publication in the Federal Register of termination of the segregation, or on October 27, 2025, unless extended by the BLM Utah State Director in accordance with 43 CFR 2711.1-2(d) prior to the termination date.

The conveyance document, if issued, will include the following terms, covenants, conditions, and reservations:

1. A reservation to the United States for ditches and canals constructed by the authority of the United States under the Act of Aug. 30, 1890;

2. Valid existing rights issued prior to conveyance;

3. An appropriate indemnification clause protecting the United States from claims arising out of the purchaser's use, occupancy, or operations on the conveyed lands;

4. Additional terms and conditions that the authorized officer deems appropriate.

The EA, appraisal, maps, mineral potential report, and environmental site assessment are available for review at the location listed in the ADDRESSES section earlier. Interested parties may submit, in writing, any comments concerning the sale, including notifications of any encumbrances or other claims relating to the parcel (see ADDRESSES).

The BLM Utah State Director will review adverse comments regarding the parcel and may sustain, vacate, or modify this realty action, in whole or in part. In the absence of timely objections, this realty action will become the final determination of the Department of the Interior.

In addition to publication in the Federal Register, the BLM will also publish this notice in the Insider newspaper, once a week, for three consecutive weeks.

Before including your address, phone number, email address, or other personal identifying information in your comments, the BLM will make your entire comment—including your personal identifying information—publicly available at any time. While you can ask us in your comment to withhold your personal identifying information from public review, we cannot guarantee that we will be able to do so.

(Authority: 43 CFR 2711)

Gregory Sheehan,
Utah State Director.

[FR Doc. 2023-23693 Filed 10-26-23; 8:45 am]

BILLING CODE 4331-25-P